DEPARTMENT OF COMMERCE

Foreign-Trade Zones Board

[S-159-2016]

Foreign-Trade Zone 61—San Juan, Puerto Rico; Application for Subzone; Aceros de América, Inc.; San Juan, Puerto Rico

An application has been submitted to the Foreign-Trade Zones Board (the Board) by the Puerto Rico Trade & Export Company, grantee of FTZ 61, requesting subzone status for the facility of Aceros de América, Inc., located in San Juan, Puerto Rico. The application was submitted pursuant to the provisions of the Foreign-Trade Zones Act, as amended (19 U.S.C. 81a-81u), and the regulations of the Board (15 CFR part 400). It was formally docketed on November 10, 2016.

The proposed subzone (4.49 acres) is located at State Road #1, km 25.0, Quebrada Arenas Ward, San Juan. The proposed subzone would be subject to the existing activation limit of FTZ 61. No authorization for production activity has been requested at this time.

In accordance with the Board's regulations, Camille Evans of the FTZ Staff is designated examiner to review the application and make recommendations to the Executive Secretary.

Public comment is invited from interested parties. Submissions shall be addressed to the Board's Executive Secretary at the address below. The closing period for their receipt is December 27, 2016. Rebuttal comments in response to material submitted during the foregoing period may be submitted during the subsequent 15-day period to January 10, 2017.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Camille Evans at Camille.Evans@trade.gov or (202) 482-2350.

Dated: November 10, 2016.
Elizabeth Whiteman,
Acting Executive Secretary.

[FR Doc. 2016-27574 Filed 11-15-16; 8:45 am]

BILLING CODE 3510-DS-P